DEPARTMENT OF HEALTH AND HUMAN SERVICES

Centers for Medicare & Medicaid Services

42 CFR Part 423

Office of the Secretary

45 CFR Part 170

[CMS-4205-CN]

RINs 0938-AV24 and 0938-AU96

Medicare Program; Medicare Prescription Drug Benefit Program; Health Information Technology Standards and Implementation Specifications; Correction

AGENCY: Centers for Medicare & Medicaid Services (CMS), Office of the National Coordinator for Health Information Technology (ONC), Department of Health and Human Services (HHS).

ACTION: Final rule; correction.

SUMMARY: This document corrects typographical and technical errors in the final rule that appeared in the June 17, 2024, Federal Register, titled “Medicare Program; Medicare Prescription Drug Benefit Program; Health Information Technology Standards and Implementation Specifications.” The effective date of the final rule was July 17, 2024.

DATES:

Effective date: This correction is effective September 9, 2024.

Applicability date: This correcting document is applicable to the start of the transition period for use of the National Council for Prescription Drug Programs (NCPDP) SCRIPT standard and NCPDP Formulary and Benefit (F&B) standard versions beginning July 17, 2024.

FOR FURTHER INFORMATION CONTACT:

Maureen Connors, (410) 786-4132—Part D Standards for Electronic Prescribing.

Alexander Baker, (202) 260-2048—Health IT Standards.

SUPPLEMENTARY INFORMATION:

I. Background

In FR Doc. FR 2024-12842 of June 17, 2024 (89 FR 51238), the final rule titled “Medicare Program; Medicare Prescription Drug Benefit Program; Health Information Technology Standards and Implementation Specifications,” there were a few typographical and technical errors that are identified and corrected in this correction. The corrections are applicable to the start of the transition period for use of the National Council for Prescription Drug Programs (NCPDP) SCRIPT standard and NCPDP (Formulary and Benefit) F&B standard versions beginning July 17, 2024, as if they had been included in the document that appeared in the June 17, 2024 Federal Register.

II. Summary of Errors

On page 51252, we made typographical errors in our discussion of the start dates for the transition periods for use of the NCPDP SCRIPT standard and NCPDP F&B standard versions, and in section IV of this document we correct these errors.

On page 51255, we made errors in our discussion of how non-NCPDP members may review and inspect NCPDP standards that have been incorporated by reference, and in section IV of this document we correct this error.

III. Waivers of Proposed Rulemaking and Delay in Effective Date

Under 5 U.S.C. 553(b) of the Administrative Procedure Act (the APA), the agency is required to publish a notice of the proposed rule in the Federal Register before the provisions of a rule take effect. Specifically, 5 U.S.C. 553 requires the agency to publish a notice of the proposed rule in the Federal Register that includes a reference to the legal authority under which the rule is proposed, and the terms and substance of the proposed rule or a description of the subjects and issues involved. Further, 5 U.S.C. 553 requires the agency to give interested parties the opportunity to participate in the rulemaking through public comment on a proposed rule. Similarly, section 1871(b)(1) of the Social Security Act (the Act) requires the Secretary to provide for notice of the proposed rule in the Federal Register and provide a period of not less than 60 days for public comment for rulemaking to carry out the administration of the Medicare program under title XVIII of the Act. In addition, section 553(d) of the APA and section 1871(e)(1)(B)(i) of the Act mandate a 30-day delay in effective date after issuance or publication of a rule. Sections 553(b)(B) and 553(d)(3) of the APA provide for exceptions from the APA notice and comment and delay in effective date requirements. In cases in which these exceptions apply, sections 1871(b)(2)(C) and 1871(e)(1)(B)(ii) of the Act provide exceptions from the notice, 60-day comment period, and delay in effective date requirements of the Act as well. Section 553(b)(B) of the APA and section 1871(b)(2)(C) of the Act authorize an agency to dispense with normal notice and comment rulemaking procedures for good cause if the agency makes a finding that the notice and comment process is impracticable, unnecessary, or contrary to the public interest. In addition, both section 553(d)(3) of the APA and section 1871(e)(1)(B)(ii) of the Act allow the agency to avoid the 30-day delay in effective date where such delay is contrary to the public interest and the agency includes a statement of support.

We believe that this correction does not constitute a rule that would be subject to the notice and comment or delayed effective date requirements of the APA or section 1871 of the Act. This document corrects typographical and technical errors in the preamble of the final rule but does not make substantive changes to the policies that were adopted in the final rule. As a result, this correction is intended to ensure that the information in the final rule accurately reflects the policies adopted in that final rule.

In addition, even if this were a rule to which the notice and comment procedures and delayed effective date requirements applied, we find that there is good cause to waive such requirements. Undertaking further notice and comment procedures to incorporate the preamble corrections in this document into the final rule or delaying the effective date would be unnecessary, as we are not altering our policies or regulatory changes, but rather, we are simply implementing the policies and regulatory changes that we previously proposed, requested comment on, and subsequently finalized. This final rule correction is intended solely to ensure that the final rule accurately reflects policies and regulatory changes that have been adopted through rulemaking. Furthermore, such notice and comment procedures would be contrary to the public interest because it is in the public's interest to ensure that the final rule accurately reflects our policies and regulatory changes. Therefore, we believe we have good cause to waive the notice and comment and effective date requirements.

IV. Corrections

In FR Doc. FR 2024-12842 appearing on page 51238, in the Federal Register of Monday, June 17, 2024, make the following corrections:

1. On page 51252, third column, first full paragraph—

a. Lines 14 and 15, the date “July 7, 2024” is corrected to read “July 17, 2024”.

b. Line 29, the date “July 7, 2024” is corrected to read “July 17, 2024.”

2. On page 51255, second column, sixth full paragraph, lines 4 through 6, the phrase “Non-NCPDP members may obtain these materials for information purposes by contacting” is corrected to read “Non-NCPDP members may arrange to inspect these materials by contacting”.

Elizabeth J. Gramling,
Executive Secretary to the Department, Department of Health and Human Services.

[FR Doc. 2024-20174 Filed 9-6-24; 8:45 am]

BILLING CODE 4120-02-P